NUCLEAR REGULATORY COMMISSION

Meetings; Sunshine Act

Agency Holding the Meetings: Nuclear Regulatory Commission.

DATES: Weeks of June 8, 15, 22, 29, July 6, 13, 2009.

Place: Commissioners' Conference Room, 11555 Rockville Pike, Rockville, Maryland.

Status: Public and Closed.

Week of June 8, 2009

There are no meetings scheduled for the week of June 8, 2009.

Week of June 15, 2009—Tentative

There are no meetings scheduled for the week of June 15, 2009.

Week of June 22, 2009—Tentative

Thursday, June 25, 2009

1:30 p.m.

Meeting with Advisory Committee on the Medical Uses of Isotopes (Public Meeting) (Contact: Ashley Cockerham, 240-888-7129).

This meeting will be webcast live at the Web address— http://www.nrc.gov.

Friday, June 26, 2009

9:30 a.m. Discussion of Security Issues (Closed—Ex. 3)

Week of June 29, 2009—Tentative

There are no meetings scheduled for the week of June 29, 2009.

Week of July 6, 2009—Tentative

There are no meetings scheduled for the week of July 6, 2009.

Week of July 13, 2009—Tentative

There are no meetings scheduled for the week of July 13, 2009.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: June 4, 2009.
Rochelle C. Bavol,
Office of the Secretary.

[FR Doc. E9-13571 Filed 6-5-09; 11:15 am]

BILLING CODE 7590-01-P